UNITED STATES INSTITUTE OF PEACE

Sunshine Act Meeting Notice

Date/Time: Thursday, November 21, 2001; 9:30 a.m.—5:30 p.m.

Location: 1200 17th Street, NW, Suite 200—Conference Room, Washington, DC 20036.

Status: Open Session—Portions may be closed pursuant to subsection (c) of section 552(b) of Title 5, United States Code, as provided in subsection 1706(h)(3) of the United States Institute of Peace Act, Public Law 98-525.

Agenda: November 2002 Board Meeting; Approval of Minutes of the One Hundred Sixth Meeting (September 19, 2002) of the Board of Directors; Chairman's Report; President's Report; Committee Reports; Other General Issues.

Contact: Mr. John Brinkley, Director, Office of Public Outreach, Telephone: (202) 457-1700.

Dated: October 30, 2002.
Harriet Hentges,
Executive Vice President, United States Institute of Peace.

[FR Doc. 02-28380 Filed 11-4-02; 2:05 am]

BILLING CODE 6820-AR-M